ENVIRONMENTAL PROTECTION AGENCY

[FRL-8219-1]

Gulf of Mexico Program Policy Review Board Meeting

AGENCY: Environmental Protection Agency (EPA).

ACTION: Notice of meeting.

SUMMARY: Under the Federal Advisory Committee Act (Pub. L. 92-463), EPA gives notice of a meeting of the Gulf of Mexico Program (GMP) Policy Review Board (PRB). For information on access or services for individuals with disabilities, please contact Gloria Car, U.S. EPA, at (228) 688-2421 or car.gloria@epa.gov. To request accommodation of a disability, please contact Gloria Car, preferably at least 10 days prior to the meeting, to give EPA as much time as possible to process your request.

DATES: The meeting will be held on Thursday, October 5, 2006, from 8:30 a.m. to 3:30 p.m.

ADDRESSES: The meeting will be held at the Omni Royal Orleans, 621 Saint Louis Street, New Orleans, LA 70140, 504-529-5333. http://www.omnihotels.com

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda topics include: Gulf of Mexico Alliance and Governors' Action Plan Updates; Federal Support Framework—Accomplishments; CEQ Assessment of Progress and Near-Term Priorities; Gulf Hypoxia—Status of Reassessment; GMP Accomplishments Report; GMP FY07 Workplan; Gulf Guardian Awards Program; Binational Initiatives.

The meeting is open to the public.

Dated: September 5, 2006.
Gloria D. Car,
Designated Federal Officer.

[FR Doc. E6-15205 Filed 9-12-06; 8:45 am]

BILLING CODE 6560-50-P